DEPARTMENT OF COMMERCE

[Docket No. 150806686-5999-02]

Privacy Act System of Records, Amended System of Records

AGENCY: U.S. Department of Commerce, Office of the Secretary.

ACTION: Notice of Amendment to Privacy Act System of Records: COMMERCE/DEPT-5, Freedom of Information Act and Privacy Act Request Records.

SUMMARY: The Department of Commerce publishes this notice to announce the effective date of a Privacy Act System of Records notice entitled Notice of Amendment to: COMMERCE/DEPT-5, Freedom of Information Act and Privacy Act Request Records.

DATES: The system of records amendment becomes effective on November 23, 2015.

ADDRESSES: For a copy of the system of records please mail requests to: Michael J. Toland, Freedom of Information and Privacy Act Officer, Office of Privacy and Open Government, 1401 Constitution Ave. NW., Room 52010, Washington, DC 20230.

FOR FURTHER INFORMATION CONTACT: Michael J. Toland, Freedom of Information and Privacy Act Officer, Office of Privacy and Open Government, 1401 Constitution Ave. NW., Room 52010, Washington, DC 20230.

SUPPLEMENTARY INFORMATION: On October 9, 2015 (80 FR 61162), the Department of Commerce published and sought comment on a notice in the Federal Register, entitled “Notice of Proposed Amendment to Privacy Act System of Records: COMMERCE/DEPT-5, Freedom of Information Act and Privacy Act Request Records.” Data elements for this system of records were provided in the October 9, 2015, notice and are not repeated here. No comments were received in response to the request for comments. By this notice, the Department of Commerce is adopting the proposed changes to the system as final without changes effective November 23, 2015.

Dated: November 17, 2015.
Michael J. Toland,
Department of Commerce, Freedom of Information and Privacy Act Officer.

[FR Doc. 2015-29834 Filed 11-20-15; 8:45 am]

BILLING CODE 3510-17-P